DEPARTMENT OF THE INTERIOR

Bureau of Land Management

[LLMTL06000 L11100000.DS0000 LXSISGST0000]

Notice of Availability of the Lewistown Field Office Greater Sage-Grouse Draft Land Use Plan Amendments and Draft Environmental Impact Statement, Montana

AGENCY: Bureau of Land Management, Interior.

ACTION: Notice of availability.

SUMMARY: In accordance with the National Environmental Policy Act of 1969, as amended, and the Federal Land Policy and Management Act of 1976, as amended, the Bureau of Land Management (BLM) has prepared a Lewistown Field Office (LFO) Greater Sage-Grouse (GRSG) Draft Resource Management Plan (RMP) Amendment and Draft Environmental Impact Statement (EIS) for the LFO and by this notice is announcing the opening of the comment period.

DATES: To ensure that comments will be considered, the BLM must receive written comments on the Draft RMP Amendment/Draft EIS within 90 days following the date the Environmental Protection Agency publishes notice of the Draft RMP Amendment/Draft EIS in the Federal Register. The BLM will announce future meetings or hearings and any other public participation activities at least 15 days in advance through public notices, media releases, and/or mailings.

ADDRESSES: You may submit comments related to the LFO GRSG Draft RMP Amendment/Draft EIS by any of the following methods:

• Web site: https://www.blm.gov/epl-front-office/eplanning/lup/lup_register.do

• Email: blm_mt_lfo_sage_grouse@blm.gov

• Fax: 406-538-1904

• Mail: BLM—Greater Sage-Grouse EIS, 920 Northeast Main St., Lewistown, MT 59457

Copies of the LFO GRSG Draft RMP Amendment/Draft EIS are available at the LFO at the above address or on the Web site at: http://blm.gov/f9kd.

FOR FURTHER INFORMATION CONTACT: Adam Carr, Project Lead, telephone 406-538-1913; see address above; email acarr@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM prepared the LFO GRSG Draft RMP Amendment/Draft EIS to address a range of alternatives focused on specific conservation measures across the LFO range of the GRSG. This Draft RMP Amendment/Draft EIS is one of 15 separate planning efforts undertaken as part of the BLM's and United States Forest Service's (USFS) National Greater Sage-Grouse Planning Strategy. The Draft RMP Amendment/Draft EIS proposes to amend the RMPs for the LFO. The current management decisions for resources are described in the following RMPs:

• Judith RMP (1994)

• Headwaters RMP (1984)

The planning area includes approximately 7.3 million acres of BLM, USFS, State, local, and private lands located in central Montana, in five counties (Petroleum, Fergus, Judith Basin, Chouteau and Meagher). Within the planning area, the BLM administers approximately 593,995 surface acres and 1,113,841 acres of Federal mineral (subsurface) estate. Management decisions made as a result of this Draft RMP Amendment/Draft EIS will apply only to the BLM-administered lands and Federal mineral estate within two categories of habitat identified in cooperation with Montana Fish, Wildlife and Parks:

• Preliminary Priority Habitat (PPH)—Areas identified as having the highest conservation value to maintaining sustainable GRSG populations; include breeding, late brood-rearing and winter concentration areas (233,219 surface acres; 281,748 acres of Federal mineral estate).

• Preliminary General Habitat (PGH)—Areas of seasonal or year-round habitat outside of priority habitat (112,341 surface acres; 175,848 acres of Federal mineral estate).

The formal public scoping process for the RMP Amendment/EIS began on December 9, 2011, with the publication of a Notice of Intent in the Federal Register (76 FR 77008). Another notice was published in the Federal Register to extend the scoping period until March 19, 2012. The BLM held a scoping open house on January 10, 2012. The BLM used public scoping comments to help identify planning issues that directed the formulation of alternatives and framed the scope of analysis in the Draft RMP Amendment/Draft EIS. The scoping process was also used to introduce the public to preliminary planning criteria, which set limits on the scope of the Draft RMP Amendment/Draft EIS.

Issues considered in the Draft RMP Amendment/Draft EIS include GRSG habitat, energy and mineral development, recreation, travel management, rights-of-way including transmission, livestock grazing, wildland fire management, vegetation management, drought and climate change, special designations, fish and wildlife, socioeconomics and environmental justice, and agricultural conversion.

The Draft RMP Amendment/Draft EIS evaluates four alternatives in detail, including the No Action Alternative (Alternative A) and three action alternatives (Alternatives B, C and D). The BLM identified Alternative D as the preferred alternative. Identification of this alternative, however, does not represent final agency direction, and the Proposed RMP Amendment may reflect changes or adjustments based on information received during the public comment period, from new information, or from changes in BLM policies or priorities. The Proposed RMP Amendment may include objectives and actions described in the other analyzed alternatives or otherwise within the spectrum of alternatives analyzed.

Alternative A would retain the current management goals, objectives, and direction specified in the current RMPs for the LFO. Alternative B includes conservation measures from the Sage-Grouse National Technical Team Report. Alternative C includes conservation measures various conservation groups submitted to the BLM. Alternative D includes conservation measures the BLM developed with the cooperating agencies.

Pursuant to 43 CFR 1610.7-2(b), this notice announces a concurrent public comment period on proposed Areas of Critical Environmental Concern (ACEC). One ACEC is proposed in Alternative C. The Sage-Grouse Habitat ACEC (approximately 96,000 acres) would include the following resource use limitations if it were formally designated:

Designate as a Right-of-Way exclusion area; close to livestock grazing; allow vegetation treatments only for the benefit of GRSG; and recommend for withdrawal from mineral entry.

Please note that public comments and information submitted including names, street addresses and email addresses of persons who submit comments will be available for public review and disclosure at the above address during regular business hours (7:30 a.m. to 4:30 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Katherine P. Kitchell,
Acting State Director.

[FR Doc. 2013-26867 Filed 11-7-13; 8:45 am]

BILLING CODE 4310-DN-P